ENVIRONMENTAL PROTECTION AGENCY

[FRL-9965-33-Region 9]

525 South Flower Street, Burbank, California; Notice of Proposed CERCLA Administrative Settlement Agreement

AGENCY: Environmental Protection Agency (EPA).

ACTION: Notice; request for comment.

SUMMARY: In accordance with Section 122(i) of the Comprehensive Environmental Response, Compensation and Liability Act of 1980, as amended (CERCLA), notice is hereby given of a proposed administrative settlement with Jim Schnieders, in his capacity as Trustee of the Irma King Trust, to resolve the trust's civil liability for response costs related to the San Fernando Valley Area 2 Superfund Site (the Site). EPA enters into the settlement pursuant to Section 122(h)(1) of CERCLA. The settlement requires the Irma King Trust to pay $30,000 to resolve its liability pursuant to Section 107(a) of CERCLA for past and future response costs that EPA has incurred or will incur at the Site. The settlement includes a covenant not to sue pursuant to Sections 106 or 107(a) of CERCLA. For thirty (30) days following the date of publication of this Notice in the Federal Register, the Agency will receive written comments relating to the settlement. The Agency will consider all comments received and may modify or withdraw its consent to the settlement if comments received disclose facts or considerations that indicate the proposed settlement is inappropriate, improper, or inadequate. The Agency's response to any comments received will be available for public inspection at 75 Hawthorne Street, San Francisco, CA 94105.

DATES: Pursuant to Section 122(i) of CERCLA, EPA will receive written comments relating to this proposed settlement for thirty (30) days following the date of publication of this Notice in the Federal Register.

ADDRESSES: The proposed settlement is available for public inspection at EPA Region IX, 75 Hawthorne Street, San Francisco, California. A copy of the proposed settlement may be obtained from Tessa Berman, EPA Region IX, 75 Hawthorne Street, ORC-3, San Francisco, CA 94105, telephone number 415-972-3472. Comments should reference 525 South Flower Street, Burbank, California and should be addressed to Ms. Berman at the above address.

FOR FURTHER INFORMATION CONTACT: Tessa Berman, Assistant Regional Counsel (ORC-3), Office of Regional Counsel, U.S. EPA Region IX, 75 Hawthorne Street, San Francisco, CA 94105; phone: (415) 972-3472; fax: (417) 947-3570; email: berman.tessa@epa.gov.

Dated: July 5, 2017.
Enrique Manzanilla,
Director, Superfund Division, U.S. EPA, Region IX.

[FR Doc. 2017-15734 Filed 7-26-17; 8:45 am]

BILLING CODE 6560-50-P